NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 15, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of the Inspector General (N1-16-00-3, 20 items, 18 temporary items). Case files and related records pertaining to investigations, audits and evaluations, and inspections. Also included are electronic copies of records created using electronic mail and word processing. Recordkeeping copies of significant investigative case files and audit/evaluation final reports are proposed for permanent retention.

2. Department of Agriculture, Farm Service Agency (N1-145-00-1, 10 items, 8 temporary items). Records relating to audits and to investigations of alleged fraud, abuse, irregularities, or violations of law, including reports, working papers, correspondence, and electronic copies of documents created using electronic mail and word processing. Recordkeeping copies of significant investigation case files and audits are proposed for permanent retention.

3. Department of the Army, Agency-wide (N1-AU-00-13, 14 items, 14 temporary items). Records relating to the management of the Army National Guard and Army Reserve, training, and the use of military forces during natural disasters and other domestic emergencies. Included are records relating to such matters as reserve unit attendance, ROTC scholarship applications, class schedules, training plans and reports, and reports on domestic emergency operations. Also included are electronic copies of documents created using electronic mail and word processing. This schedule allows the agency to expedite disposal of these records, which were previously approved for disposal. It also authorizes the agency to apply the proposed disposition instructions to any recordkeeping medium.

4. Department of the Army, Agency-wide (N1-AU-00-27, 51 items, 51 temporary items). Records relating to climatic, hydrologic, and topographic services, environmental quality, real estate, construction, engineering and design, and Corps of Engineer activities involving such matters as project operations, regulatory functions, water resource policies, and contracting. Included are such records as meteorological observations, map indices and corrections, real estate record cards, construction bid abstracts, community shelter progress reports, reservoir use permits, plant rate computations, civilian uniform records, non-action construction permits, wreck and obstruction files, flood plain management studies, sales contract registers, and wage rate pre-determinations. Also included are electronic copies of documents created using electronic mail and word processing. This schedule allows the agency to expedite disposal of these records, which were previously approved for disposal. It also authorizes the agency to apply the proposed disposition instructions to any recordkeeping medium.

5. Department of the Army, Agency-wide (N1-AU-00-28, 38 items, 38 temporary items). Records relating to the management of medical services and to nuclear and chemical weapons and materiel. Included are such records as patient property slips, hospital menus, pharmacy issues, hospital inspection reports, dental worksheets, bed availability files, medical statistics and feeder reports, and veterinary clinic reports. Also included are electronic copies of documents created using electronic mail and word processing. This schedule allows the agency to expedite disposal of these records, which were previously approved for disposal. It also authorizes the agency to apply the proposed disposition instructions to any recordkeeping medium.

6. Department of the Army, Agency-wide (N1-AU-00-41, 18 items, 18 temporary items). Records relating to administrative matters, including planning and budgeting, legislative liaison, and inspections. Included are such records as office personnel registers, duty rosters, lower echelon operating budgets, comments on proposed legislation made by offices not having chief responsibility for providing agency comments, and inspection files. Also included are test procedures and plans relating to the U.S. Army Joint Interface Test Force Joint Interoperability for Tactical Command and Control. Also included are electronic copies of documents created using electronic mail and word processing. This schedule allows the agency to expedite disposal of these records, which were previously approved for disposal. It also authorizes the agency to apply the proposed disposition instructions to any recordkeeping medium.

7. Department of the Army, Agency-wide (N1-AU-01-22, 31 items, 31 temporary items). Records relating to research, development, and acquisition, including such matters as new equipment training, R&D procurement, field experiment controls, test schedules, unfunded study files, and industry-to-industry briefings. Also included are electronic copies of documents created using electronic mail and word processing. This schedule allows the agency to expedite disposal of these records, which were previously approved for disposal. It also authorizes the agency to apply the proposed disposition instructions to any recordkeeping medium.

8. Department of Commerce, U.S. Patent and Trademark Office (N1-241-01-5, 11 items, 11 temporary items). Electronic input files, scanned images, data files, and electronic copies of records created using electronic mail and word processing. Records are created by scanning and retrieval systems in connection with the initial processing of patent applications. The recordkeeping copies of these records are maintained in paper form in patent case files, which were previously approved for permanent retention.

9. Department of Commerce, U.S. Patent and Trademark Office (N1-241-01-8, 10 items, 10 temporary items). Electronic copies of records created using electronic mail and word processing that relate to case files maintained by the Office of Enrollment and Discipline. Files pertain to such matters as registered attorneys, data sheets on registrants, closed complaints, and unsuccessful applications. This schedule also increases the retention period for the recordkeeping copies of complaint files, which were previously approved for disposal.

10. Department of Education, Child Care Subsidy Program (N1-441-01-2, 4 items, 4 temporary items). Records used for determining eligibility for government-subsidized childcare, including financial and income data, acceptance letters, denial letters, verification forms, and electronic copies of documents created using electronic mail and word processing.

11. Department of the Navy, Agency-wide (N1-NU-01-2, 2 items, 2 temporary items). Incident reports and incident complaint reports received by the Naval Criminal Investigative Service. This schedule reduces the retention period for records predating 1988, which were previously approved for disposal.

12. Department of State, Bureau of Human Resources (N1-59-00-15, 9 items, 9 temporary items). Subject files relating to Foreign and Civil Service employee grievance policies and procedures, individual Foreign Service grievance case files, administrative subject files, and an electronic system used to track grievance case files. Also included are electronic copies of documents created using electronic mail and word processing.

13. Department of State, Bureau of Human Resources (N1-59-00-16, 18 items, 18 temporary items). Records relating to the retirement of Foreign Service Officers and Civil Service employees, including case files, subject files, and lists of retirees. Also included are electronic copies of documents created using electronic mail and word processing.

14. Department of State, Under Secretary for Arms Control and International Security (N1-59-01-7, 15 items, 9 temporary items). Appointment books, calendars, and logs. Also included are electronic copies of documents created using electronic mail and word processing. Proposed for permanent retention are recordkeeping copies of subject, country, and chronological files as well as speeches and testimony, periodic reports, and advisory board files.

15. Department of State, Bureau of Arms Control (N1-59-01-11, 24 items, 15 temporary items). Periodic reports, chronological files, and official outgoing correspondence maintained by lower level offices, non-substantive subject files, files of interagency committees for which the bureau is not the chair or secretariat, and extra copies of information reports. Also included are electronic copies of documents created using electronic mail and word processing. Proposed for permanent retention are recordkeeping copies of such records as periodic reports, chronological files, and official outgoing correspondence files maintained at high bureau levels, files relating to treaty negotiation and implementation, and files of interagency committees for which the bureau is chair or serves as the secretariat.

16. Department of the Treasury, Bureau of the Public Debt (N1-53-01-8, 8 items, 8 temporary items). Records of the Director's Office, Division of Program Administration, relating to the processing and servicing of bearer, registered, and other bond payments. Files consist of an electronic database and the related outputs and documentation.

17. Environmental Protection Agency, Office of Research and Development (N1-412-01-1, 8 items, 5 temporary items). Records associated with the Integrated Risk Information System (IRIS), which provides health assessment information on chemical substances tested and verified by the agency. Included are background materials, public submissions, confidential business information, and electronic copies of documents created using electronic mail and word processing. Records proposed for permanent retention include recordkeeping copies of IRIS case files, master data files, and the related documentation.

18. Federal Labor Relations Authority, Office of the Executive Director (N1-480-01-2, 6 items, 5 temporary items). Records of the 1997 Customer Survey including completed questionnaires and subject files dealing with the development and administration of the survey. Also included are electronic copies of records created using electronic mail and word processing. Proposed for permanent retention is the recordkeeping copy of the final report and the executive summary.

19. Maritime Administration, Associate Administrator for Shipbuilding and Ship Operations (N1-357-01-1, 3 items, 3 temporary items). Ship Managers Operations Claims Files, also known as Seamen's Claims, which consist of information obtained from claimants seeking compensation for death, injury, or illness suffered while employed on vessels under contract with the United States. Records include medical information, financial records, statements of witnesses, correspondence, and exhibits. Also included are electronic copies of documents created using electronic mail and word processing.

20. National Credit Union Administration, Office of Public and Congressional Affairs (N1-413-01-2, 17 items, 9 temporary items). Uncaptioned photographic prints, negatives, contact sheets, and slides, agency telephone directories, and publication planning files. Also included are electronic copies of documents created using electronic mail and word processing. Proposed for permanent retention are recordkeeping copies of such records as Congressional testimony, captioned photographic prints and negatives documenting significant agency events, posters, news releases, biographical files of high-level agency officials, and agency publications.

21. National Credit Union Administration, Office of Corporate Credit Unions (N1-413-01-3, 17 items, 15 temporary items). General correspondence, examination reports and related work papers, audit reports, records relating to requests by credit unions for expanded authorities, reading files, and Century Date Conversion (Y2K) files. Also included are electronic copies of documents created using electronic mail and word processing. Proposed for permanent retention are recordkeeping copies of Credit Union History Files and agency training materials and course manuals.

22. National Credit Union Administration, Office of the Executive Director (N1-413-01-4, 2 items, 2 temporary items). Monthly reports detailing office operations and activities at headquarters and in regional offices. Also included are electronic copies of documents created using electronic mail and word processing.

23. National Credit Union Administration, Office of Credit Union Development (N1-413-01-5, 2 items, 1 temporary item). Electronic copies of records created using electronic mail and word processing that relate to the Community Development Revolving Loan Fund. Recordkeeping copies of these files are proposed for permanent retention.

24. Tennessee Valley Authority, Education, Training, and Diversity (N1-142-00-2, 4 items, 3 temporary items). Administrative records relating to strategic performance business meetings and conferences. Records relate to such matters as conference arrangements, room reservations, and procurement of refreshments. Also included are electronic copies of documents created using electronic mail and word processing. Proposed for permanent retention are recordkeeping copies of meeting minutes, agendas, presentations, and statistical summaries.

25. Tennessee Valley Authority, Education, Training, and Diversity (N1-142-01-1, 4 items, 3 temporary items). Routine administrative records relating to equal opportunity, diversity, and minority economic development. Included are records relating to conference arrangements, procurement contracts, travel records, and reference and background materials. Also included are electronic copies of documents created using electronic mail and word processing. Proposed for permanent retention are recordkeeping copies of correspondence of the vice-president for minority affairs.

26. Tennessee Valley Authority, Power Resources and Operations Planning (N1-142-01-2, 10 items, 7 temporary items). Records relating to not-for-profit electric cooperatives and to planning for the generation of environmentally sound energy. Included are publications background materials and electronic copies of documents created using electronic mail and word processing. Proposed for permanent retention are recordkeeping copies of publications and project case files.

Dated: August 24, 2001.
Michael J. Kurtz,
Assistant Archivist for Records Services, Washington, DC.

[FR Doc. 01-21923 Filed 8-29-01; 8:45 am]

BILLING CODE 7515-01-U